DEPARTMENT OF COMMERCE

International Trade Administration

[A-427-820, A-428-830, A-475-829, A-580-847, A-583-836, A-412-822]

Notice of Postponement of Preliminary Determinations of Sales at Less Than Fair Value: Stainless Steel Bar From France, Germany, Italy, Korea, Taiwan, and the United Kingdom

AGENCY: Import Administration, International Trade Administration, Department of Commerce.

EFFECTIVE DATE: May 11, 2001.

FOR FURTHER INFORMATION CONTACT: Brian Smith (France) at (202) 482-1766; Barbara Wojcik-Betancourt (Korea) at (202) 482-0629; Brian Ledgerwood (the United Kingdom) at (202) 482-3836; Craig Matney (Germany) at (202) 482-1778; Jarrod Goldfeder (Italy) at (202) 482-0189; Blanche Ziv (Taiwan) at (202) 482-4207; Import Administration, International Trade Administration, U.S. Department of Commerce, 14th Street and Constitution Avenue, NW., Washington, DC 20230.

APPLICABLE STATUTE AND REGULATIONS: Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to 19 CFR part 351 (April 2000).

POSTPONEMENT OF PRELIMINARY DETERMINATIONS: On January 24, 2001, the Department published the initiation of the antidumping duty investigations of imports of stainless steel bar from France, Germany, Italy, Korea, Taiwan, and the United Kingdom. The notice of initiation stated that we would make our preliminary determinations for these antidumping duty investigations no later than 140 days after the date of issuance of the initiation (i.e., June 6, 2001). See Notice of Initiation of Antidumping Duty Investigations: Stainless Steel Bar from France, Germany, Italy, Korea, Taiwan, and the United Kingdom, 66 FR 7620, 7626 (January 24, 2001); and Corrections, Notice of Initiation of Antidumping Duty Investigations: Stainless Steel Bar from France, Germany, Italy, Korea, Taiwan, and the United Kingdom, 66 FR 14986 (March 14, 2001).

On April 27, 2001, the petitioners ¹ made a timely request pursuant to 19 CFR 351.205(e) for a 50-day postponement of the preliminary determinations, or until July 26, 2001. The petitioners requested a postponement of the preliminary determinations because of the need for additional time to submit comments regarding the respondents' questionnaire responses and for the Department to analyze the respondents' data and seek additional data, if necessary, prior to the issuance of the preliminary determinations.

¹ The petitioners are Carpenter Technology Corp., Crucible Specialty Metals, Electralloy Corp., Empire Specialty Steel Inc., Slater Steels Corp., and the United Steelworkers of America, AFL-CIO/CLC.

For the reasons identified by the petitioners, and because there are no compelling reasons to deny the request, we are postponing the preliminary determinations under section 733(c)(1) of the Act. We will make our preliminary determinations no later than July 26, 2001.

This notice is published pursuant to sections 733(f) and 777(i) of the Act.

Dated: May 7, 2001.
Richard W. Moreland,
Deputy Assistant Secretary for Import Administration.

[FR Doc. 01-11937 Filed 5-10-01; 8:45 am]

BILLING CODE 3510-DS-P